DEPARTMENT OF JUSTICE

Notice of Lodging of Proposed Consent Decree Under the Comprehensive Environmental Response, Compensation and Liability Act

On February 12, 2018 the Department of Justice lodged a proposed Consent Decree with the United States District Court for the District of Idaho in the lawsuit entitled United States v. Potlatch Corporation and Potlatch Land and Lumber, LLC, Civil Action No. 1:18-cv-0069-CWD.

The proposed settlement resolves the United States' claims under Section 107 of the Comprehensive Environmental Response, Compensation and Liability Act, 42 U.S.C. Section 9607 against the Potlatch Corporation (“Potlatch”) and Potlatch Land and Lumber, LLC (“PLL”) (collectively “Potlatch/PLL”) for recovery of past response costs incurred at the Avery Landing Site in Shoshone County, Idaho. The Site is approximately ten acres in size and is located along the St. Joe River about one mile west of the town of Avery in northern Idaho. Potlatch was the owner and operator of a portion of the Site at the time of disposal of hazardous substances. PLL, a Potlatch subsidiary, is the current owner of that portion of the Site. Potlatch/PLL will pay $6 million in past response costs to resolve the United States' claims.

The publication of this notice opens a period for public comment on the proposed Consent Decree. Comments should be addressed to the Assistant Attorney General, Environment and Natural Resources Division, and should refer to United States v. Potlatch Corporation and Potlatch Land and Lumber, LLC, D.J. Ref. No. 90-11-3-1116/DJ Ref. No. 90-11-3-11294.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $6.25 (25 cents per page reproduction cost) payable to the United States Treasury.

Susan M. Akers,
Assistant Section Chief, Environmental Enforcement Section, Environment and Natural Resources Division.

[FR Doc. 2018-03432 Filed 2-20-18; 8:45 am]

BILLING CODE 1410-15-P